DEPARTMENT OF AGRICULTURE

Animal and Plant Health Inspection Service

[Docket No. APHIS-2024-0052]

Notice of Request for Approval of an Information Collection; Study of Human Behavior and Attitudes Linked to Human-Deer Transmission of SARS-CoV-2

AGENCY: Animal and Plant Health Inspection Service, USDA.

ACTION: New information collection; comment request.

SUMMARY: In accordance with the Paperwork Reduction Act of 1995, this notice announces the Animal and Plant Health Inspection Service's intention to request an approval of a new information collection associated with a study to understand human behavior and attitudes linked to human-deer transmission of SARS-CoV-2.

DATES: We will consider all comments that we receive on or before January 28, 2025.

ADDRESSES: You may submit comments by either of the following methods:

• Federal eRulemaking Portal: Go to www.regulations.gov. Enter APHIS-2024-0052 in the Search field. Select the Documents tab, then select the Comment button in the list of documents.

• Postal Mail/Commercial Delivery: Send your comment to Docket No. APHIS-2024-0052, Regulatory Analysis and Development, PPD, APHIS, Station 2C-10.16, 4700 River Road, Unit 25, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on this human-deer transmission of SARS-CoV-2 study, contact Dr. Keith Carlisle, Supervisory Social Scientist/Human Dimensions Unit Leader, National Wildlife Research Center, WS, APHIS, 4101 La Porte Ave, Fort Collins, CO 80521; (970) 266-6047; email: keith.m.carlisle@usda.gov. For more information on the information collection process, contact Mr. Joseph Moxey, APHIS' Paperwork Reduction Act Coordinator; (301) 851-2533; email joseph.moxey@usda.gov.

SUPPLEMENTARY INFORMATION:

Title: Study of Human Behavior and Attitudes Linked to Human-Deer Transmission of SARS-CoV-2.

OMB Control Number: 0579-XXXX.

Type of Request: Approval of a new information collection.

Abstract: Under the Act of March 2, 1931 (7 U.S.C. 8351), the Secretary of Agriculture is authorized to conduct a program of wildlife services with respect to injurious animal species and take any action the Secretary considers necessary in conducting the program. Additionally, the Secretary of Agriculture is authorized to conduct activities to control nuisance mammals and birds (except for urban rodent control) and those mammals and bird species that are reservoirs for zoonotic disease. This authority has been delegated to the Animal and Plant Health Inspection Service's (APHIS') Wildlife Services (WS). Two responsibilities of the Deputy Administrator of WS are to assist Federal, State, local, and foreign agencies and individuals with regard to wildlife damage and control and conduct research to develop wildlife damage management methods (7 CFR 371.6).

There has been spillover and sustained transmission of SARS-CoV-2 (SCV2) among animal populations, and this has raised significant questions regarding the potential establishment of disease reservoirs among wildlife species. SCV2 infection has been observed in white-tailed deer (WTD) populations across much of the United States, suggesting that deer may serve as a vector and potential reservoir for the disease. While experts suggest human-to-deer transmission is likely, the activities or factors that facilitate transmission have yet to be identified.

Experts suggest that human behaviors likely contribute to the direct and indirect transmission pathways between humans and WTD. Previous research highlights direct contact (feeding or touching) or aerosol transmission (interacting in close proximity) as likely routes of spillover. However, indirect transmission through fomites (use of attractants, leaving out feed for wildlife, trash/refuse) or environmental contamination (waste, septic or wastewater overflow) cannot be dismissed.

Little research has been done to explore the nuances of human-deer interactions relevant to SCV2 transmission. Understanding the perceptions, attitudes, and behaviors of community groups relevant to SCV2 spillover and spillback is a pivotal aspect of managing and mitigating current and future threats. While previous research has explored human dimensions aspects related to deer management, it is often done in the context of rural communities or through the lens of consumptive use, such as hunting. Further exploration of human-deer interactions among a larger diversity of stakeholders and within the specific context of disease management is needed.

For this study, APHIS has established a cooperative agreement with the University of Minnesota to administer quantitative surveys among members of the public in five States (Illinois, Minnesota, New York, Pennsylvania, and Tennessee). The survey will collect data concerning the values, beliefs, attitudes, and behaviors associated with humans' interactions with WTD. This information will provide critical data to inform future disease surveillance, mitigation strategies, and policies aimed at curtailing SCV2 transmission between humans and WTD. This information will be useful for informing future disease surveillance and management efforts by providing in-depth analysis of the social and cognitive drivers of human-deer interactions.

The information collection activity associated with this study consists of a multi-item questionnaire administered to members of the public with primary residence in the States of Illinois, Minnesota, New York, Pennsylvania, or Tennessee.

We are asking the Office of Management and Budget (OMB) to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.075 hours per response.

Respondents: Members of the public whose primary residence is in the States of Illinois, Minnesota, New York, Pennsylvania, or Tennessee.

Estimated annual number of respondents: 60,000.

Estimated annual number of responses per respondent: 2.

Estimated annual number of responses: 105,000.

Estimated total annual burden on respondents: 7,868 hours. (Due to averaging, the total annual burden hours may not equal the product of the annual number of responses multiplied by the reporting burden per response.)

All responses to this notice will be summarized and included in the request for OMB approval. All comments will also become a matter of public record.

Done in Washington, DC, this 22nd day of November 2024.
Michael Watson,
Administrator, Animal and Plant Health Inspection Service.

[FR Doc. 2024-28049 Filed 11-27-24; 8:45 am]

BILLING CODE 3410-34-P